DEPARTMENT OF TRANSPORTATION

Federal Highway Administration

Notice of Final Federal Agency Actions on the Route 58—Martin Luther King Freeway Extension in Virginia

AGENCY: Federal Highway Administration (FHWA), DOT.

ACTION: Notice of Limitation on Claims for Judicial Review of Actions by FHWA.

SUMMARY: This notice announces actions taken by the FHWA that are final within the meaning of 23 U.S.C. 139(l)(1). The actions relate to the Route 58—Martin Luther King Freeway Extension in the City of Portsmouth, Virginia. Those actions grant licenses, permits, and approvals for the project.

DATES: By this notice, the FHWA is advising the public of final agency actions subject to 23 U.S.C. 139(l)(1). A claim seeking judicial review of the Federal agency actions on the highway project will be barred unless the claim is filed on or before September 16, 2009. If the Federal law that authorizes judicial review of a claim provides a time period of less than 180 days for filing such claim, then that shorter time period still applies.

FOR FURTHER INFORMATION CONTACT: Mr. John Simkins, Senior Environmental Specialist, Federal Highway Administration, 400 North 8th Street, Richmond, Virginia 23219; telephone: (804) 775-3342; e-mail: John.Simkins@dot.gov. The FHWA Virginia Division Office's normal business hours are 7 a.m. to 5 p.m. (eastern time). For the Virginia Department of Transportation: Mr. Nicholas Nies, Virginia Department of Transportation, 1401 East Broad Street, Richmond, Virginia 23219; telephone: (804) 786-1092; e-mail: Nicholas.Nies@VDOT.Virginia.gov.

SUPPLEMENTARY INFORMATION: Notice is hereby given that FHWA has taken final agency actions subject to 23 U.S.C. 139(l)(1) by issuing licenses, permits, and approvals for the following highway project in the State of Virginia: Route 58—Martin Luther King Freeway Extension. The project would involve construction of a four-lane highway connecting Interstate 264 with existing Martin Luther King Freeway at London Boulevard. This direct connection would reduce through traffic and related congestion on local streets. The actions taken by FHWA, and the laws under which such actions were taken, are described in the Revised Environmental Assessment, the Finding of No Significant Impact (FONSI) that was issued on February 26, 2009, and in other documents in the FHWA project records. The Revised Environmental Assessment, FONSI, and other project records are available by contacting FWHA or VDOT at the addresses provided above. The Revised Environmental Assessment and FONSI can also be viewed on the Internet at http://www.midtowntunnel.org under “Document Library,” or at VDOT's offices.

This notice applies to all Federal agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536]; Marine Mammal Protection Act [16 U.S.C. 1361]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)—470(ll)]; Archeological and Historic Preservation Act [16 U.S.C. 469-469(c)]; Native American Grave Protection and Repatriation Act [25 U.S.C. 3001-3013].

6. Social and Economic: Civil Rights Act of 1964 [42 U.S.C. 2000(d)-2000(d)(1)]; American Indian Religious Freedom Act [42 U.S.C. 1996]; Farmland Protection Policy Act [7 U.S.C. 4201-4209].

7. Executive Orders: E.O. 12898, Federal Actions to Address Environmental Justice in Minority Populations and Low Income Populations; E.O. 13007, Indian Sacred Sites.

(Catalog of Federal Domestic Assistance Program Number 20.205, Highway Planning and Construction. The regulations implementing Executive Order 12372 regarding intergovernmental consultation on Federal programs and activities apply to this program.)

Authority: 23 U.S.C 139(l)(1).

Issued on: March 16, 2009.
John Simkins,
Senior Environmental Specialist.

[FR Doc. E9-6091 Filed 3-19-09; 8:45 am]

BILLING CODE 4910-RY-P